DEPARTMENT OF TRANSPORTATION

Federal Highway Administration

Environmental Impact Statement: South Carolina

AGENCY: Federal Highway Administration (FHWA), DOT.

ACTION: Notice of Intent (revised).

SUMMARY: The FHWA is issuing this notice to advise the public that an environmental impact statement (EIS) will be prepared with a revised terminus for the proposed Interstate 73 (I-73) highway project in eastern South Carolina.

FOR FURTHER INFORMATION CONTACT: Mr. Patrick Tyndall, Environmental Program Manager, Federal Highway Administration, 1835 Assembly Street, Suite 1270, Columbia, South Carolina 29201, telephone: (803) 765-5411, e-mail: Patrick.tyndall@fhwa.dot.gov.

SUPPLEMENTARY INFORMATION: The FHWA, in cooperation with the South Carolina Department of Transportation (SCDOT), previously published a Notice of Intent in the Federal Register (August 9, 2004; 69 FR 48271) to prepare a Tier 1 EIS from the South Carolina/North Carolina state line to the vicinity of I-95, a distance of approximately 35 miles. This revised notice provides for an EIS, not tiered, from the vicinity of Hamlet, North Carolina (southeast of Rockingham) to I-95 in South Carolina, a distance of approximately 40 miles.

Improvements to the corridor are considered necessary to improve national and regional connectivity to the Conway/Myrtle Beach area of South Carolina by providing a direct link from North Carolina. This link will enhance economic opportunities and tourism in South Carolina. The proposed project would fulfill congressional intent, as originally proposed in the Intermodal Surface Transportation Efficiency Act (ISTEA) of 1991 (Pub. L. 102-240; 105 Stat. 1914) and confirmed in the Transportation Equity Act (TEA-21) of 1998 (Pub. L. 105-178; 112 Stat. 107). Alternatives to be evaluated include the no action alternative, the upgrade of existing roads, construction on new alignment, and combinations of upgrades and new alignments.

The FHWA and SCDOT are seeking input as a part of the scoping process to assist in identifying issues relative to this project. Letters describing the proposed action and soliciting comments will be sent to appropriate Federal, State, and local agencies, and to private organizations and citizens who have previously expressed or are known to have interest in this proposal. An interagency coordination process will begin soon, with the invitations to Cooperating Agencies and a formal scoping meeting to occur in Fall 2005. A public involvement plan is being developed for this project and will include a variety of opportunities for interested parties to be involved in the project. Two public interest group/public scoping meetings will be held in late summer 2005 at one location in northeastern South Carolina and one in Southern North Carolina. These meetings will be well publicized in advance, giving the location and time for each meeting. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research Planning and Construction. The regulation implementing Executive Order 12372 regarding intergovernmental consultation on Federal programs and activities apply to this program).
Issued on: July 18, 2005.
Patrick L. Tyndall,
Acting Division Administrator, FHWA, Columbia, South Carolina.

[FR Doc. 05-14486 Filed 7-21-05; 8:45 am]

BILLING CODE 4910-22-P